LEGAL SERVICES CORPORATION

Sunshine Act Meetings of the Board of Directors; Notice

Date and Time: The Legal Services Corporation Board of Directors will meet on April 16-17, 2010. On Friday April 16, the meeting will commence at 1:30 p.m., Mountain Time. On April 17, the first meeting will commence at 8:30 a.m., Mountain Time. On each of these two days, each meeting other than the first meeting of the day will commence promptly upon adjournment of the immediately preceding meeting.

Location: The Sheraton Hotel, 5151 E. Grant Road, Tucson, Arizona 85712.

Public Observation: Unless otherwise noticed, all meetings of the LSC Board of Directors are open to public observation. Members of the public that are unable to attend but wish to listen to a public proceeding may do so by following the telephone call-in directions given below. You are asked to keep your telephone muted to eliminate background noises. From time to time the presiding Chair may solicit comments from the public.

Call-In Directions for Open Sessions:

• Call toll-free number: 1-(866) 451-4981;

• When prompted, enter the following numeric pass code: 5907707348;

• When connected to the call, please “MUTE” your telephone immediately.

Meeting Schedule
| Time ¹
Friday, April 16, 2010
1. Promotion & Provision for the Delivery of Legal Services Committee (“Promotions & Provisions Committee”) | 1:30 p.m.
Saturday, April 17, 2010
1. Governance & Performance Review Committee | 8:30 a.m.
2. Joint Meeting of the Audit and Operations & Regulations Committees
3. Audit Committee
4. Operations & Regulations Committee
5. Finance Committee
6. Board of Directors

Status of Meeting: Open, except as noted below.

• Operations & Regulations Committee—Open, except that a portion of the meeting of the Operations & Regulations Committee may be closed to the public pursuant to a vote of the Board of Directors to receive a staff briefing.²

¹ Please note that all times in this notice are in the Mountain Time zone.

² Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(9)(B), and the corresponding provisions of the Legal Services Corporation's implementing regulation, 45 CFR 1622.5(g), will not be available for public inspection. A copy of the General Counsel's Certification that in his opinion the closing is authorized by law will be available upon request.

• Board of Directors—Open, except that a portion of the meeting of the Board of Directors may be closed to the public pursuant to a vote of the Board of Directors to consider and perhaps act on the General Counsel's report on potential and pending litigation involving LSC, and to hear briefings by LSC's President and Inspector General.³

³ Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(9)(B), and the corresponding provisions of the Legal Services Corporation's implementing regulation, 45 CFR 1622.5(g), will not be available for public inspection. A copy of the General Counsel's Certification that in his opinion the closing is authorized by law will be available upon request.

Matters To Be Considered

Friday, April 16, 2010

Promotion and Provision for the Delivery of Legal Services Committee; Agenda

1. Approval of agenda.

2. Approval of Minutes of the Committee's meeting of January 29, 2010.

3. Consider and act on Committee charter discussion to reflect name change.

4. Presentation by Arizona legal services programs—The Economic Downturn in Arizona: The Impact on Clients and Grantees.

Presenters:

a. Lillian Johnson, Executive Director, Community Legal Services, Phoenix.

b. Anthony Young, Executive Director, Southern Arizona Legal Aid, Tucson.

c. Levon Henry, Executive Director, DNA Peoples Legal Services, Window Rock.

5. Staff Updates—Karen Sarjeant, Vice President for Programs & Compliance.

• LSC Private Attorney Involvement Action Plan—Help Close the Justice Gap: Unleash the Power of Pro Bono.

• Garten Loan Repayment Assistance Program.

• Other Updates.

6. Public comment.

7. Consider and act on other business.

8. Consider and act on adjournment of meeting.

Saturday, April 17, 2010

Governance and Performance Review Committee; Agenda

1. Approval of agenda.

2. Approval of Minutes of the Committee's meeting of January 29, 2010.

3. Staff report on summary of self assessment comments and goals from 2009 Board Self-Assessment cycle.

4. Staff report on results of data collection for Board 2010 Training Plan.

5. Consider and Act on Board 2010 Training Plan—Resolution 2010-XXX.

6. Consider and Act on Committee Self Assessment Plan for 2010—Resolution 2010-XXX.

7. Public comment.

8. Consider and act on other business.

9. Consider and act on adjournment of meeting.

Joint Meeting of the Audit and Operations & Regulations Committees; Agenda

1. Approval of agenda.

2. Consider and act on revisions to the LSC Accounting Guide for LSC Recipients.

• Presentation by Chuck Greenfield, Program Counsel III.

• Public Comment.

3. Public comment.

4. Consider and act on other business.

5. Consider and act on adjournment of meeting.

Audit Committee; Agenda

1. Approval of agenda.

2. Approval of minutes of the Committee's January 29, 2010 meeting.

3. Follow-up to FY 2009 Annual Audit Management recommendations.

• David Richardson, Treasurer/Comptroller.

• Charles Jeffress, Chief Administrative Officer.

4. Staff report on classification of consultants.

• Mattie Cohan, Senior Assistant General Counsel.

5. Quarterly review of 403(b) plan performance.

• Charles Jeffress, Chief Administrative Officer.

6. Review of schedule for 403(b) plan audit.

• Charles Jeffress, Chief Administrative Officer.

7. Discussion of schedule for Audit Committee review of management processes.

8. Briefing by Inspector General.

9. Public comment.

10. Consider and act on other business.

11. Consider and act on adjournment of meeting.

Operations & Regulations Committee; Agenda

Open Session:

1. Approval of agenda.

2. Approval of Minutes of the Committee's Open Session meeting of January 30, 2010.

3. Consider and act on Draft Final Rule to amend 45 CFR Part 1642 (and related technical amendment of Part 1609 and 1610) to repeal the prohibition on claiming and collecting and retention of attorneys' fees.

• Presentation by Mattie Cohan, Senior Assistant General Counsel.

• Public Comment.

4. Staff Update on GAO Reviews.

5. Public comment.

Closed Session:

6. Briefing on an internal administrative matter.

7. Management briefing on operations.

8. Consider and act on other business.

9. Consider and act on adjournment of meeting.

Finance Committee; Agenda

1. Approval of agenda.

2. Approval of the minutes of the Committee's meeting of January 29, 2010.

3. Staff report on LRAP expenditures, commitments, and recoveries.

• Presentation by Charles Jeffress, Chief Administrative Officer.

• Comments by David Richardson, Treasurer and Comptroller.

4. Consider and act on revised protocol for the acceptance and use of private contributions, Resolution 2010-XXX.

• Presentation by David Richardson, Treasurer and Comptroller.

5. Consider and act on the Consolidated Operating Budget for FY 2010 and recommend Resolution 2010-XXX to the full Board.

• Presentation by David Richardson, Treasurer/Comptroller.

• Comments by Charles Jeffress, Chief Administrative Officer.

6. Presentation on LSC's Financial Reports for the first five months of FY 2010.

• Presentation by David Richardson, Treasurer/Comptroller.

• Comments by Charles Jeffress, Chief Administrative Officer.

7. Report on FY 2011 appropriations process.

• Presentation by John Constance, Director, Office of Government Relations and Public Affairs.

8. Public comment.

9. Consider and act on other business.

10. Consider and act on adjournment of meeting.

Board of Directors; Agenda

Open Session:

1. Approval of agenda.

2. Approval of Minutes of the Board's Open Session Telephonic meeting of December 22, 2009.

3. Approval of Minutes of the Board's Open Session meeting of January 30, 2010.

4. Consider and act on whether to begin each meeting, or the first of a series of meetings, with the Pledge of Allegiance.

5. Consider and act on whether to establish a Search Committee for LSC President (“Search Committee”), Resolution 2010-XXX, and if so:

a. Consider and act on Charter for Search Committee;

b. Consider and act on whether to delegate to the Search Committee the authority to approve and issue a Request for Proposals for executive search firm services;

c. Consider and act on whether to approve for issuance a Request for Proposals for executive search firm services.

6. Consider and act on Resolutions 2010-XXXa-f thanking outgoing Board Members for their service and contributions to the Legal Services Corporation.

7. Chairman's Report.

8. Members' Reports.

9. President's Report.

10. Inspector General's Report.

11. Consider and act on the report of the Promotion & Provision for the Delivery of Legal Services Committee.

12. Consider and act on the report of the Finance Committee.

13. Consider and act on the report of the Audit Committee.

14. Consider and act on the report of the Operations & Regulations Committee.

15. Consider and act on the report of the Governance & Performance Review Committee.

16. Consider and act on Resolution 2010-XXX expressing the Board's appreciation to Patricia Batie, acting Corporate Secretary, Legal Services Corporation.

17. Public comment.

18. Consider and act on other business.

19. Consider and act on whether to authorize an executive session of the Board to address items listed below under Closed Session.

Closed Session:

20. Consider and act on General Counsel's report on potential and pending litigation involving LSC.

21. IG briefing of the Board.

22. Consider and act on motion to adjourn meeting.

Contact Person for Information: Katherine Ward, Executive Assistant to the Vice President & General Counsel, at (202) 295-1500. Questions may be sent by electronic mail to FR_NOTICE_QUESTIONS@lsc.gov.

Special Needs: Upon request, meeting notices will be made available in alternate formats to accommodate visual and hearing impairments. Individuals who have a disability and need an accommodation to attend the meeting may notify Katherine Ward, at (202) 295-1500 or FR_NOTICE_QUESTIONS@lsc.gov.

Dated: April 9, 2010.
Patricia D. Batie,
Corporate Secretary.

[FR Doc. 2010-8595 Filed 4-12-10; 11:15 am]

BILLING CODE 7050-01-P